FEDERAL COMMUNICATIONS COMMISSION

47 CFR Part 73

[DA 05-2965; MB Docket No. 05-295, RM-11280]

Radio Broadcast Services; Cumberland, KY; Glade Spring, Marion, and Weber City, VA

AGENCY: Federal Communications Commission.

ACTION: Proposed rule.

SUMMARY: The Audio Division seeks comment on a petition filed by JBL Broadcasting, Inc., proposing the upgrade to Channel 274C3 at Cumberland, Kentucky, the reallotment of Channel 274C3 from Cumberland to Weber City, Virginia, and the modification of Station WVEK-FM's license accordingly. To accommodate the reallotment, petitioner also proposed (1) the substitution of Channel 263A for vacant Channel 274A at Glade Spring, Virginia; and (2) the substitution of Channel 273A for Channel 263A at Marion, Virginia, and the modification of Station WOLD-FM's license accordingly. Channel 274C3 can be reallotted to Weber City in compliance with the Commission's minimum distance separation with a site restriction of 10.9 kilometers (6.8 miles) south at petitioner's requested site. The reference coordinates for Channel 274C3 at Weber City are 36-31-36 North Latitude and 82-35-13 West Longitude. See SUPPLEMENTARY INFORMATION, infra.

DATES: Comments must be filed on or before January 9, 2006, and reply comments on or before January 24, 2006.

ADDRESSES: Federal Communications Commission, 445 Twelfth Street, SW., Washington, DC 20554. In addition to filing comments with the FCC, interested parties should serve Counsel for Petitioner as follows: Dennis J. Kelly, Esq., Post Office Box 41177, Washington, DC 20018.

FOR FURTHER INFORMATION CONTACT: Sharon P. McDonald, Media Bureau, (202) 418-2180.

SUPPLEMENTARY INFORMATION: This is a summary of the Commission's Notice of Proposed Rule Making and Order to Show Cause, MB Docket No. 05-295, adopted November 14, 2005, and released November 16, 2005. The full text of this Commission decision is available for inspection and copying during normal business hours in the Commission's Reference Center, 445 Twelfth Street, SW., Washington, DC 20554. The complete text of this decision may also be purchased from the Commission's duplicating contractor, Best Copy and Printing, Inc., 445 12th Street, SW., Room CY-B402, Washington, DC 20054, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

To accommodate the reallotment, Channel 263A can be substituted at Glade Spring with a site restriction of 14.0 kilometers (8.7 miles) east at petitioner's requested site; and Channel 273A can be substituted at Marion with a site restriction of 2.5 kilometers (1.6 miles) north at petitioner's requested site. The reference coordinates for Channel 263A at Glade Spring are 36-47-50 North Latitude and 81-36-52 West Longitude; and the reference coordinates for Channel 273A at Marion are 36-54-10 North Latitude and 81-32-27 West Longitude. In accordance with the provisions of Section 1.420(i) of the Commission's Rules, we shall propose to modify the authorization of Station WVEK-FM without entertaining competing expressions of interest in the use of Channel 274C3 at Weber City, Virginia, or requiring petitioner to demonstrate the availability of an additional equivalent channel for use by other parties.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Kentucky, is amended by removing Cumberland, Channel 274A.

3. Section 73.202(b), the Table of FM Allotments under Virginia, is amending by removing Channel 274A and adding Channel 263A at Glade Spring; and by removing Channel 263A and adding Channel 273A at Marion; and by adding Weber City, Channel 274C3.

Federal Communications Commission.
John A. Karousos,
Assistant Chief, Audio Division, Media Bureau.

[FR Doc. 05-23185 Filed 11-22-05; 8:45 am]

BILLING CODE 6712-01-P